DEPARTMENT OF COMMERCE

National Oceanic and Atmospheric Administration

50 CFR Part 223

[Docket No. 230802-0182]

RIN 0648-BL87

Endangered and Threatened Wildlife and Plants; Proposed Protective Regulations for the Threatened Banggai Cardinalfish (Pterapogon Kauderni); Informational Meeting and Public Hearing

AGENCY: National Marine Fisheries Service (NMFS), National Oceanic and Atmospheric Administration (NOAA), Commerce.

ACTION: Notice; informational meeting and public hearing.

SUMMARY: We, NMFS, will hold an informational meeting and formal public hearing related to our proposed rule published on August 15, 2023, to promulgate protective regulations for the Banggai cardinalfish (Pterapogon kauderni). The public comment period was extended to December 15, 2023.

DATES: An informational meeting and virtual public hearing will be held online on November 17, 2023, from 7 to 8:30 p.m. (Eastern Standard Time).

ADDRESSES: The informational meeting and public hearing will be conducted as a virtual meeting, and any member of the public can join by internet or phone regardless of location. You may join the virtual meeting using a web browser, a mobile app on a phone (app installation required), or—to listen only—using just a phone call, as specified at this link: https://www.fisheries.noaa.gov/action/proposed-protective-regulations-banggai-cardinalfish.

You may submit comments verbally at the public hearing. You may also submit comments in writing by the following method:

• Electronic Submissions: Submit all electronic public comments via the Federal eRulemaking Portal https://www.regulations.gov and enter NOAA-NMFS-2023-0099 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All Personal Identifying Information (e.g., name, address, etc.) voluntarily submitted by the commenter may be publicly accessible. Do not submit Confidential Business Information or otherwise sensitive or protected information.

We will accept anonymous comments (enter N/A in the required fields if you wish to remain anonymous). Attachments to electronic comments will be accepted in Microsoft Word, Excel, or Adobe PDF file formats only.

Details on the virtual public hearing will be made available on our website at: https://www.fisheries.noaa.gov/action/proposed-protective-regulations-banggai-cardinalfish. The draft environmental assessment and draft initial regulatory flexibility analysis that were prepared to support the development of the proposed rule are available on our website at: https://www.fisheries.noaa.gov/action/proposed-protective-regulations-banggai-cardinalfish. Previous rulemaking documents related to the listing of the species can also be obtained electronically on our website at: https://www.fisheries.noaa.gov/species/banggai-cardinalfish/conservation-management.

FOR FURTHER INFORMATION CONTACT: Celeste Stout, NMFS, Office of Protected Resources, celeste.stout@noaa.gov, (301) 427-8436; Erin Markin, NMFS, Office of Protected Resources, erin.markin@noaa.gov, (301) 427-8416.

SUPPLEMENTARY INFORMATION: On August 15, 2023, NMFS published a proposed rule to promulgate protective regulations for the Banggai cardinalfish under the Endangered Species Act (ESA; 88 FR 55431). In that notice of proposed rulemaking, we also announced a 60-day public comment period, and an option to request a public hearing. On September 27, 2023, we received a letter requesting a public hearing be held as well as a 90-day extension to the public comment period. In response, the public comment period was extended by another 60 days, and we are accepting public comments on the proposed rule through December 15, 2023 (88 FR 71523). In addition, a virtual public hearing and will be held online on November 17, 2023, from 7 to 8:30 p.m. (Eastern Standard Time) as specified in DATES above. Public comments can be submitted as described under ADDRESSES.

Public Hearing

The informational meeting and public hearing on November 17, 2023, will be conducted online as a virtual meeting, as specified in the ADDRESSES above. More detailed instructions for joining the virtual meeting are provided on our web page (see https://www.fisheries.noaa.gov/action/proposed-protective-regulations-banggai-cardinalfish). The hearing will begin with a brief presentation by NMFS that will give an overview of the proposed rule under the ESA. After the presentation, there will be a question and answer session during which members of the public may ask NMFS staff questions about the proposed rule. Following the question and answer session, members of the public will have the opportunity to provide oral comments for the record regarding the proposed rule. In order to ensure all participants have an opportunity to speak during the hearing, the time allotted for individual oral comments may be limited. Therefore, anyone wishing to make an oral statement at the public hearing for the record is encouraged to prepare a written copy of their comments. All oral comments will be recorded and added to the public comment record for the proposed rule.

Written comments may also be submitted during the public comment period as described under DATES and ADDRESSES.

Reasonable Accommodations

People needing accommodations so that they may attend and participate at the public hearing should submit a request for reasonable accommodations as soon as possible, and no later than 7 business days prior to the hearing date, by contacting Celeste Stout (see FOR FURTHER INFORMATION CONTACT).

Authority: The authority for this action is the Endangered Species Act of 1973, as amended (16 U.S.C. 1531 et seq.).

Dated: October 26, 2023.
Angela Somma,
Chief, Endangered Species Division, Office of Protected Resources, National Marine Fisheries Service.

[FR Doc. 2023-24027 Filed 10-31-23; 8:45 am]

BILLING CODE 3510-22-P